DEPARTMENT OF JUSTICE

2021 Survey of Campus Law Enforcement Agencies (SCLEA); Correction

AGENCY: Office of Justice Programs, Department of Justice.

ACTION: Notice; correction.

SUMMARY: The Bureau of Justice Statistics, Office of Justice Programs, Department of Justice, submitted a 30-day notice for publication in the Federal Register of July 23, 2021 soliciting comments to an information collection request to the Office of Management and Budget (OMB) for review and approval in accordance with the Paperwork Reduction Act of 1995. The document contained incorrect information.

FOR FURTHER INFORMATION CONTACT: Elizabeth Davis, Statistician, Bureau of Justice Statistics, 810 Seventh Street NW, Washington, DC 20531 (email: Elizabeth.davis@usdoj.gov; telephone: 202-305-2667).

SUPPLEMENTARY INFORMATION:

Correction

In the Federal Register of July 23, 2021, in FR Doc 2021-15716, on page 39078, in the second column, correct the estimated number of respondents to read 2,067 and the total estimated burden for the collection to 2,067 hours.

Dated: July 23, 2021.
Melody Braswell,
Department Clearance Officer for PRA, U.S. Department of Justice.

[FR Doc. 2021-16077 Filed 7-29-21; 8:45 am]

BILLING CODE 4410-18-P